DEPARTMENT OF HEALTH AND HUMAN SERVICES

Centers for Disease Control and Prevention

Disease, Disability, and Injury Prevention and Control Special Emphasis Panel: Controlling Asthma in American Cities Project Phase II-Intervention Implementation, Program Announcement #03030

In accordance with section 10(a)(2) of the Federal Advisory Committee Act (Pub. L. 92-463), the Centers for Disease Control and Prevention (CDC) announces the following meeting:

Name: Disease, Disability, and Injury Prevention and Control Special Emphasis Panel (SEP): Controlling Asthma in American Cities Project Phase II-Intervention Implementation, Program Announcement #03030.

Times and Dates:

8:30 a.m.-9:15 a.m., July 23, 2003. (Open.)

9:15 a.m.-4:30 p.m., July 23, 2003. (Closed.)

8:30 a.m.-4:30 p.m., July 24, 2003. (Closed.)

Place: Sheraton Colony Square, 188 14th Street, Atlanta, GA 30361, Telephone 404-892-6000.

Status: Portions of the meeting will be closed to the public in accordance with provisions set forth in section 552b(c) (4) and (6), title 5 U.S.C., and the Determination of the Director, Management Analysis and Services Office, CDC, pursuant to Public Law 92-463.

Matters to be Discussed: The meeting will include the review, discussion, and evaluation of applications received in response to Program Announcement #03030.

Contact Person for More Information: Drue Barrett, Ph.D., Deputy Associate Director for Science, National Center for Environmental Health, CDC, 4770 Buford Highway, MS F29, Atlanta, GA 30341, Telephone 770-488-7653.

The Director, Management Analysis and Services Office, has been delegated the authority to sign Federal Register notices pertaining to announcements of meetings and other committee management activities, for both CDC and the Agency for Toxic Substances and Disease Registry.

Dated: June 25, 2003.
John Burckhardt,
Acting Director, Management Analysis and Services Office, Centers for Disease Control and Prevention.

[FR Doc. 03-16531 Filed 6-30-03; 8:45 am]

BILLING CODE 4163-18-P